DEPARTMENT OF JUSTICE

Antitrust Division

Notice Pursuant to the National Cooperative Research and Production Act of 1993—Petroleum Environmental Research Forum Project No. 2011-07, Flare Combustion Efficiency Tools and Best Practices

Notice is hereby given that, on March 11, 2014, pursuant to Section 6(a) of the National Cooperative Research and Production Act of 1993, 15 U.S.C. 4301 et seq. (“the Act”), Petroleum Environmental Research Forum Project No. 2011-07, Flare Combustion Efficiency Tools and Best Practices (“PERF Project No. 2011-07”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: ExxonMobil Research and Engineering Company, Fairfax, VA; Total SA, Total Petrochemical and Refining, U.S.A., La Porte, TX; Suncor Energy Services, Inc., Calgary, Alberta, Canada; Chevron U.S.A., INC., a Pennsylvania Corporation acting through its CHEVRON Energy Technology Company Division, San Ramon, CA; and BP Products North America Inc., Naperville, IL.

The general area of PERF Project No. 2011-07's planned activity is through cooperative research efforts, to share information, methods, and tools needed for developing improved flare emissions estimating methodologies and to summarize flare operating practices that are expected to provide high combustion/destruction efficiancy.

Patricia A. Brink,
Director of Civil Enforcement, Antitrust Division.

[FR Doc. 2014-08523 Filed 4-14-14; 8:45 am]

BILLING CODE P